DEPARTMENT OF TRANSPORTATION

Federal Railroad Administration

[Docket Number FRA-2008-0009, Notice No. 4]

Declaration of Emergency Event

AGENCY: Federal Railroad Administration, Department of Transportation.

ACTION: Notice of declaration of emergency event.

SUMMARY: On September 26, 2008, the Administrator of the Federal Railroad Administration (FRA) determined that the impending landfall of tropical storm Kyle on the coast of the United States and the potential of that storm to reach hurricane status constituted an emergency event as related to railroad operations. Accordingly, the Administrator activated the Emergency Relief Docket. This document provides notice of the Administrator's determination.

SUPPLEMENTARY INFORMATION: On September 26, 2008, the Administrator of FRA determined that the impending landfall of tropical storm Kyle on the coast of the United States and that potential of that storm to reach hurricane status constituted an emergency event pursuant to Title 49 Code of Federal Refulations (CFR) Part 211.45(c) and that public safety required the implementation of FRA's emergency waiver rule directly related to the emergency. Accordingly, the Administrator activated the Emergency Relief Docket (Docket Number FRA-2008-0009) and in accordance with 49 CFR Part 211.45(g), petitions received in that docket pursuant to this emergency event will be handled according to the requirements of 49 CFR Part 211.45(g)-(j).

Interested parties are reminded that the procedures in 49 CFR Part 211.45 provide for expedited review and processing of emergency waiver petitions. Accordingly, in accordance with 49 CFR Part 211.45(h), any person wishing to comment on petitions for emergency waivers should submit their comments to the docket within 72 hours from the close of business on the day that the petition is posted in the public docket. Any person desiring a public hearing on any petition being processed in accordance with the emergency waiver procedures must notify FRA of such request in their comments submitted to the docket. Interested persons may submit their comments using any of the following methods:

(1) E-mail to FRA at RRS.Correspondence@dot.gov;

(2) Fax to FRA at 202-493-6309; or

(3) Hand deliver or expedited delivery to the Docket Clerk, Docket Operations Facility, U.S. Department of Transportation, 1200 New Jersey Avenue, SE., W12-140, Washington, DC 20590 or electronically via the internet at http://www.regulations.gov.

All communications concerning any petition in the Emergency Relief Docket should identify the appropriate docket number (e.g., Docket Number FRA-2008-0009).

Anyone is able to search all comments received into any of our dockets by the name of the individual submitting the comment (or signing the comment, if submitted on behalf of an association, business, labor union, etc.). You may review DOT's complete Privacy Act Statement in the Federal Register published on April 11, 2000 (Volume 665, Number 7, Pages 19477-78). The statement may also be found at http://www.dot.gov/privacy.html.

Issued in Washington, DC, on October 6, 2008.
Grady C. Cothen, Jr.,
Deputy Associate Administrator for Safety Standards and Program Development.

[FR Doc. E8-24379 Filed 10-14-08; 8:45 am]

BILLING CODE 4910-06-P